DEPARTMENT OF HEALTH AND HUMAN SERVICES

National Institutes of Health

Center for Scientific Review; Amended Notice of Meeting

Notice is hereby given of a change in the meeting of the Sensorimotor Integration Study Section, February 20, 2007, 8 a.m. to February 20, 2007, 5 p.m., One Washington Circle Hotel, One Washington Circle, Washington, DC 20037 which was published in the Federal Register on January 18, 2007, 72 FR 2292-2294.

The meeting will be held at The Fairmont Hotel, 2401 M Street, NW., Washington, DC 20037. The meeting date and time remain the same. The meeting is closed to the public.

Dated: February 1, 2007.
Anna Snouffer,
Acting Director, Office of Federal Advisory Committee Policy.

[FR Doc. 07-560 Filed 2-7-07; 8:45 am]

BILLING CODE 4140-01-M